DEPARTMENT OF ENERGY

Federal Energy Regulatory Commission

[Docket No. CP02-435-000]

Williston Basin Interstate Pipeline Company; Notice of Application

September 23, 2002.

Take notice that on September 9, 2002, Williston Basin Interstate Pipeline Company (Williston Basin), P.O. Box 5601, Bismarck, North Dakota 58506-5601, filed in Docket No. CP02-435-000 an Abbreviated Application pursuant to section 7(c) of the Natural Gas Act (NGA) for authorization to correct and/or update applicable portions of the Rate Schedule X-13 Service Agreement for services provided to Northern States Power Company (NSP) under Rate Schedule X-13 of Williston Basin's FERC Gas Tariff, Original Volume No. 2 (Tariff), in its entirety, all as more fully set forth in the application. This filing is available for review at the Commission in the Public Reference Room or may be viewed on the Commission's Web site at http://www.ferc.gov using the “FERRIS” link. Enter the docket number excluding the last three digits in the docket number field to access the document. For assistance, call (202) 502-8222 or for TTY, (202) 502-8659.

Williston Basin states that no rates or services performed under this contract will be adversely affected since the proposed changes merely correct or update current contract information, and that such changes had been discussed with NSP, which signed an amendment to the contract on August 30, 2002, indicating its agreement that such changes should be made.

Any person desiring to intervene or to protest this filing should file with the Federal Energy Regulatory Commission, 888 First Street, NE., Washington, DC 20426, in accordance with Rules 211 and 214 of the Commission's Rules of Practice and Procedure (18 CFR 385.211 and 385.214) and the regulations under the Natural Gas Act (18 CFR 157.10). Protests will be considered by the Commission in determining the appropriate action to be taken, but will not serve to make protestants parties to the proceeding. Any person wishing to become a party must file a motion to intervene. All such motions or protests should be filed on or before October 15, 2002, and, to the extent applicable, must be served on the applicant and on any other person designated on the official service list.

Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-24692 Filed 9-27-02; 8:45 am]

BILLING CODE 6717-01-P